DEPARTMENT OF JUSTICE

Antitrust Division

Notice Pursuant to the National Cooperative Research and Production Act of 1993—National Registry of Emergency Medical Technicians

Notice is hereby given that, on September 20, 2004, pursuant to Section 6(a) of the National Cooperative Research and Production act of 1993, 15 U.S.C. 4301 et seq. (“the Act”), National Registry of Emergency Medical Technicians (“NREMT”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to Section 6(b) of the Act, the name and principal place of business of the standards development organization is: National Registry of Emergency Medical Technicians, Columbus, OH. The nature and scope of NREMT's standards development activities are: Development of uniform standards for training and examination of personnel active in the delivery of emergency medical services.

Dorothy B. Fountain,
Deputy Director of Operations, Antitrust Division.

[FR Doc. 05-2160 Filed 2-3-05; 8:45 am]

BILLING CODE 4410-11-M